DEPARTMENT OF EDUCATION

[Docket No.: ED-2024-SCC-0063]

Agency Information Collection Activities; Submission to the Office of Management and Budget for Review and Approval; Comment Request; Early Childhood Longitudinal Study, Kindergarten Class of 2023-24 (ECLS-K:2024) August 2024 Materials Revision Request

AGENCY: Institute of Education Sciences (IES), Department of Education (ED).

ACTION: Notice

SUMMARY: In accordance with the Paperwork Reduction Act (PRA) of 1995, the Department is proposing a revision of a currently approved information collection request (ICR).

DATES: Interested persons are invited to submit comments on or before October 15, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) August 2024 Materials Revision Request.

OMB Control Number: 1850-0750.

Type of Review: Revision of a currently approved ICR.

Respondents/Affected Public: Individuals or Households.

Total Estimated Number of Annual Responses: 157,586.

Total Estimated Number of Annual Burden Hours: 84,093.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2023-24 (ECLS-K:2024) is the fourth cohort in the series of early childhood longitudinal studies. The study will advance research in child development and early learning by providing a detailed and comprehensive source of current information on children's early learning and development, transitions into kindergarten and beyond, and progress through school. The ECLS-K:2024 will provide data about the population of children in kindergarten during the 2023-24 school year.

The request to conduct the first three national data collection rounds for the ECLS-K:2024 was approved in April 2023 (OMB# 1850-0750 v26). Revisions to procedures and materials for the first two rounds of data collection were submitted and approved in three subsequent revisions requests (OMB# 1850-0750 v27 was approved in July 2023; OMB# 1850-0750 v29 was approved in February 2024; and OMB#1850-0750 v30 was approved in July 2024). The ECLS-K:2024 fall kindergarten data collection was conducted August 2023-January 2024 and the spring kindergarten round was conducted March-July 2024. These two kindergarten data collections will be followed by a spring (March-July 2025) first-grade round. Each of these rounds of data collection involves advance school contacts, for example to conduct student sampling activities, collect teacher and school information, and locate families whose children may have moved schools. Future OMB packages are planned for the third-grade pilot test (March-July 2026), as well as for the future currently-planned round, that is the national spring (March-July 2027) third-grade round.

This current revision request (accompanied by 30 days of public comment) is to update study respondent materials, surveys, and website designs that will be used in the spring 2025 first-grade data collection activities. Many of the revisions in this package were based on analyses of the fall 2022 field test data (OMB# 1850-0750 v25) and experiences in the field from the national kindergarten rounds of collection, as well as additional discussions with design experts, all of which informed changes to the design of the surveys and assessments. Changes have been made to respondent materials to remove references to the fifth-grade round, as this collection is no longer planned. Revisions to the study instruments, the respondent materials, and websites are limited to changes to the spring first-grade materials. The current revision request contains updates to the school staff and parent survey instruments made as the specifications were programmed.

This revision request also contains the specifications for the Spanish and Mandarin translations of some parent materials. Finally, this request revises the race/ethnicity items in the web and hard-copy first-grade survey instruments in line with the new federal statistical standard released on 3/28/24 (Statistical Policy Directive No. 15: Standards for Maintaining, Collecting, and Presenting Federal Data on Race and Ethnicity (SPD 15)). The requested changes in this revision request reflect a slight increase in the cost to the federal government, but do not change the estimated respondent burden for conducting this study.

Dated: September 6, 2024.
Juliana Pearson,
PRA Coordinator, Strategic Collections and Clearance, Governance and Strategy Division, Office of Chief Data Officer, Office of Planning, Evaluation and Policy Development.

[FR Doc. 2024-20644 Filed 9-11-24; 8:45 am]

BILLING CODE 4000-01-P